NATIONAL AERONAUTICS AND SPACE ADMINISTRATION

[Notice (00-025)]

Notice of Prospective Patent License

AGENCY: National Aeronautics and Space Administration.

ACTION: Notice of Prospective Patent License.

SUMMARY: NASA hereby gives notice that Cytec Industries, Inc., of Five Garret Mountain Plaza, West Paterson, NJ 07424, has applied for an exclusive license to practice the inventions described and claimed in NASA Case Numbers LAR 15544-1 entitled “HIGH PERFORMANCE/HIGH TEMPERATURE TRANSFER MOLDING RESINS,” LAR 15543-1 entitled “PHENYLETHYNYL CONTAINING REACTIVE ADDITIVES,” LAR 15834-1 entitled, “HIGH PERFORMANCE/HIGH TEMPERATURE RESINS FOR INFUSION AND TRANSFER MOLDING PROCESSES,” LAR 15534-1 entitled “METHOD OF PREPARING POLYMERS WITH LOW MELT VISCOSITY,” LAR 15700-1 entitled “BLENDS OF POLYMERS WITH REACTIVE AND NON-REACTIVE ADDITIVES HAVING LOWER MELT VISCOSITY,” and U.S. Patent No. 5,965,687 entitled “METHOD OF PREPARING POLYMERS WITH LOW MELT VISCOSITY” all of which are assigned to the United States of America as represented by the Administrator of the National Aeronautics and Space Administration. Written objections to the prospective grant of a license should be sent to Langley Research Center.

DATE: Responses to this notice must be received by May 12, 2000.

FOR FURTHER INFORMATION CONTACT: Hillary W. Hawkins, Patent Attorney, Langley Research Center, Mail Stop 212, Hampton, VA 23681-2199; Telephone 757-864-8882; Fax 757-864-9190.

Dated: March 7, 2000.
Edward A. Frankle,
General Counsel.

[FR Doc. 00-6039 Filed 3-10-00; 8:45 am]

BILLING CODE 7510-01-U